DEPARTMENT OF JUSTICE

[AAG/A Order No. 256-2002]

Privacy Act of 1974; System of Records

Pursuant to the Privacy Act of 1974 (5 U.S.C. 552a), notice is given that the Federal Bureau of Prisons (Bureau) proposes to modify its system of records entitled “Inmate Physical and Mental Health Record System, JUSTICE/BOP-007”. This system, which was last published on September 28, 1978, (43 FR 44676, 44735), is now being modified and will become effective May 14, 2002.

As previously published, the system included only those persons who were committed to the custody of the Attorney General and thereby to the Bureau of Prisons under 18 U.S.C. 4003, 4042 and 4082. The Bureau is modifying the system to include all additional individuals who are committed directly to the custody of the Bureau of Prisons, pursuant to the additional authority of 18 U.S.C. 3621, 5003 (state inmates) and inmates from the District of Columbia, pursuant to Section 11201 of Chapter 1 of Subtitle C of Title XI of the National Capital Revitalization and Self-Government Improvement Act of 1997 (Public Law 105-33; 111 Stat. 740). The authority of 18 U.S.C. 4014 is also added to authorize the maintenance and disclosure of records relating to HIV testing. The Bureau has also added a statement on the purpose of this system.

The list of records in this system has been expanded to include drug testing and DNA samples and analysis.

The section on routine uses has been reorganized and expanded. New routine uses have been added to permit release of information to former employees, a court or administrative body, the General Services Administration for record management inspections and to prevent immediate loss of life or serious bodily injury in emergency situations, such as an inmate escape. Another new routine use assists the Bureau in complying with recent laws requiring limited, specific disclosures of information concerning infectious diseases.

Appropriate sections have been revised to reflect technological advances and new agency practices regarding the storage, retrieval, access, retention and disposal of records in the system. The Bureau has re-designated the system manager from the Chief of Management and Information Systems to the Assistant Director, Health Services Division. The Bureau has also clarified record access procedures.

The authorities for exemptions from certain Privacy Act provisions have been specified. Exemptions from subsections (e)(1) and (e)(5) have been added for law enforcement purposes.

Title 5 U.S.C. 552a (e)(4) and (11) provide that the public be given a 30-day period in which to comment.

The Office of Management and Budget (OMB), which has oversight responsibilities under the Privacy Act, requires that it be given a 40-day period in which to review the system. Therefore, please submit any comments by April 15, 2002. The public, OMB, and the Congress are invited to send written comments to Mary Cahill, Management and Planning Staff, Justice Management Division, Department of Justice, Washington, DC 20530 (1400 National Place Building).

A description of the modified system is provided below.

In accordance with 5 U.S.C. 552a(r), the Department has provided a report to OMB and the Congress on the proposed modification.

Dated: February 22, 2002.
Robert F. Diegelman,
Acting Assistant Attorney General for Administration.

JUSTICE/BOP-007

System Name:

Inmate Physical and Mental Health Record System.

System Location:

Records may be retained at the Central Office, Regional Offices, or at any of the Federal Bureau of Prisons (Bureau) or at any location operated by a contractor authorized to provide correctional, medical, and/or computer service to the Bureau. A list of Bureau system locations may be found at 28 CFR part 503 and on the Internet at http://www.bop.gov.

Categories of Individuals Covered by the System:

Individuals currently or formerly under the custody of the Attorney General and/or the Director of the Bureau of Prisons.

Categories of Records in the System:

Records in this system include: (1) Identification data, including name, inmate register number, date of birth, Social Security number, FBI number, drug testing and DNA samples and analysis; (2) medical and dental history and examinations (past and present), including diagnosis and treatment notes, records, and pharmaceutical information; (3) medical information concerning deaths of inmates; (4) offense information, including Pre-sentence Reports; (5) designations of inmates from parent facilities to medical facilities, including date and type of referral; (6) pre-certifications authorizing inmates to receive care at local medical facilities, including authorized and actual length of stay, and all associated cost information; (7) mental health and drug abuse information, including interview, testing data, and progress or observation notes, generated and maintained by Bureau staff; (8) mental health and drug abuse information generated outside the Bureau by other corrections agencies and health care providers such as surgical clinics, mental hospitals, private therapists, etc.; (9) urine surveillance reports of drug program participants; (10) automated data, including Electronic Signatures, Sensitive Medical Data (SMD), Medical Duty Status (MDS), and Diagnosis Group (DGN); and (11) information concerning infectious diseases, including HIV and Tuberculosis (TB) testing and treatment records.

Authority for Maintenance of the System:

This system is established and maintained under the authority of 18 U.S.C. 3621, 4014, 4042, 4082, 4241 et seq., 5003, and section 11201 of Chapter 1 of Subtitle C of Title XI of the National Capital Revitalization and Self-Government Improvement Act of 1997.

Purpose(s):

This system assists the Bureau in providing appropriate health care to persons in the custody of the Bureau. It provides for the maintenance and release of records concerning the medical, mental and dental health of persons in the Bureau's custody.

Routine Uses of Records Maintained in the System, Including Categories of Users and the Purposes of Such Uses:

Relevant data from this system will be disclosed as follows:

(a) To contractors, grantees, experts, consultants, students, and others performing or working on a contract, service, grant, cooperative agreement, or other assignment for the Federal Government, when necessary to accomplish an agency function related to this system of records;

(b) To community health care professionals, including physicians, psychiatrists, psychologists, state and federal medical facility personnel, who are providing treatment for a pre-existing condition to former federal inmates;

(c) To federal, state, local, foreign and international law enforcement agencies and officials for law enforcement purposes such as investigations, possible criminal prosecutions, civil court actions, or regulatory proceedings;

(d) To a court or adjudicative body before which the Department of Justice or the Bureau is authorized to appear when any of the following is a party to litigation or has an interest in litigation and such records are determined by the Bureau to be arguably relevant to the litigation: (1) The Bureau, or any subdivision thereof, or (2) any Department or Bureau employee in his or her official capacity, or (3) any Department or Bureau employee in his or her individual capacity where the Department has agreed to provide representation for the employee, or (4) the United States, where the Bureau determines that the litigation is likely to affect it or any of its subdivisions;

(e) In an appropriate proceeding before a court or administrative or regulatory body when records are determined by the Department of Justice to be arguably relevant to the proceeding, including federal, state, and local licensing agencies or associations which require information concerning the suitability or eligibility of an individual for a license or permit;

(f) To the news media and the public pursuant to 28 CFR 50.2 unless it is determined that release of the specific information in the context of a particular case would constitute an unwarranted invasion of personal privacy;

(g) To a Member of Congress or staff acting upon the Member's behalf when the Member or staff requests the information on behalf of and at the request of the individual who is the subject of the record;

(h) To the National Archives and Records Administration and General Services Administration in records management inspections conducted under the authority of 44 U.S.C. 2904 and 2906;

(i) To any person or entity to the extent necessary to prevent immediate loss of life or serious bodily injury; and

(j) For information relating to infectious diseases, as follows:

(1) To state health departments and/or the Center for Disease Control, pursuant to state and/or federal laws requiring notice of cases of reportable infectious diseases;

(2) To the United States Probation Office in the district where an inmate is being released from Bureau custody on parole, placement in a community-based program, furlough, or full-term release, when the inmate is known to be HIV positive or under treatment for exposure to or active Tuberculosis (TB);

(3) To the Director of a Community Corrections Center (halfway house) receiving an inmate from Bureau custody when the inmate is known to be HIV positive or under treatment for exposure to or active TB;

(4) To the physician/provider of a Bureau or non-Bureau staff, or other person exposed to a blood-born pathogen while lawfully present in a Bureau facility, for the purpose of providing prophylaxis or other treatment and counseling; and

(k) Pursuant to subsection (b)(3) of the Privacy Act, the Department of Justice may disclose relevant and necessary information to a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

Policies and Practices for Storing, Retrieving, Accessing, Retaining, and Disposing of Records in the System:

Storage:

Information maintained in the system is stored in electronic media in Bureau facilities via a configuration of personal computer, client/server, and mainframe systems architecture. Computerized records are maintained on hard disk, Compact Discs (CDs), floppy diskettes, magnetic tapes and/or optical disks. Documentary records are maintained in manual file folders, microfilm and/or index card files.

Retrievability:

Records are retrievable by identifying data, including last name and inmate register number, and/or the inmate's social security number and/or FBI number.

Safeguards:

Information is safeguarded in accordance with Bureau rules and policy governing automated information systems security and access. These safeguards include the maintenance of records and technical equipment in restricted areas, and the required use of proper passwords and user identification codes to access the system. Only those Bureau personnel who require access to perform their official duties may access the system equipment and the information in the system.

Retention and Disposal:

Records in this system are retained for a period of thirty (30) years after expiration of the sentence. Documentary records are destroyed by shredding; computer records are destroyed by degaussing and/or shredding.

System Manager(s) and Address:

Assistant Director, Health Services Division, Federal Bureau of Prisons; 320 First Street NW., Washington, DC 20534.

Notification Procedure:

Inquiries concerning this system should be directed to the System Manager listed above.

Record Access Procedures:

All requests for records may be made in writing to the Director, Federal Bureau of Prisons, 320 First Street NW., Washington, DC 20534, and should be clearly marked “Privacy Act request.” This system is exempt, under 5 U.S.C. 552a(j), from some access. To the extent that this system of records is not subject to exemption, it is subject to access and contest. A determination as to exemption shall be made at the time a request for access is received.

Contesting Record Procedures:

Same as the above.

Record Source Categories:

Records are generated by: (1) Individuals currently or formerly under Bureau custody; (2) Bureau of Prisons staff; (3) community health care providers, including individuals, hospitals and/or other professionals involved in the medical, mental, and dental care of inmates and/or former inmates; and (4) other federal and/or state, local or tribal agencies, including those preparing or providing information on pre-sentence reports.

Systems Exempted from Certain Provisions of the Act:

The Attorney General has exempted this system from subsections (c)(3) and (4), (d), (e)(1), (e)(2), (e)(3), (e)(4)(H), (e)(5), (e)(8), (f) and (g) of the Privacy Act pursuant to 5 U.S.C. 552a(j). Rules have been promulgated in accordance with the requirements of 5 U.S.C. 553(b), (c) and (e).

[FR Doc. 02-6205 Filed 3-14-02; 8:45 am]

BILLING CODE 4410-05-P